FEDERAL TRADE COMMISSION

Granting of Request for Early Termination of the Waiting Period Under the Premerger Notification Rules

Section 7A of the Clayton Act, 15 U.S.C. 18a, as added by title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—11/03/2003
20040009 | Barry Diller | Hotwire, Inc | Barry Diller.
|  |  | Hotwire, Inc.
Transactions Granted Early Termination—11/04/2003
20040050 | Triad Hospitals, Inc | Tenet Healthcare Corporation | Central Arkansas Hospital, Inc.
|  |  | Central Care, Inc.
|  |  | Dedicated Health PHO, Inc.
|  |  | Garland Managed Care Organization, Inc.
|  |  | Jonesboro Health Services, L.L.C.
|  |  | National Park Medical Center, Inc.
|  |  | NPMC Healthcenter—Physician Services, Inc.
|  |  | StarCare of Jonesboro, Inc.
|  |  | St. Mary's Medical Group, Inc.
|  |  | St. Mary's Regional Medical Center, Inc.
|  |  | Tenet Healthcare Corporation.
|  |  | Tenet HealthSystem medical, Inc.
|  |  | Triad Hospitals, Inc.
20040054 | American Industrial Partners Capital Fund III, L.P | Alcoa, Inc | Advanced Technology and Equipment, Inc.
|  |  | Alcoa, Inc.
|  |  | American Industrial Partners Capital Fund III, L.P.
|  |  | Stolle Machiner, Inc.
20040055 | Littlejohn Fund III, LP | General Electric Company | General Electric Canada, Inc.
|  |  | General Electric Company.
|  |  | General Electric Plastics France (SNC).
|  |  | General Electric South Africa (Proprietary) Ltd.
|  |  | GEP Italia SRL.
|  |  | GE Plastics Hong Kong Ltd.
|  |  | GE Plastics Ltd.
|  |  | GE Polymerland Korea Ltd.
|  |  | GEP South America LTDA.
|  |  | GE Superabrasives Europe GmbH.
|  |  | GE Superabrasives, Inc.
|  |  | GE Surperabrasives US, Inc.
|  |  | Littlejohn Fund II, LP.
20040060 | U.S. Commercial Corp., S.A. de C.V | Good Guys, Inc | Good Guys, Inc.
|  |  | U.S. Commercial Corp., S.A. de C.V.
20040064 | Peter M. Brant | Enron Corp. (Debtor-in-Possession) | Enron Corp. (Debtor-in-Possession).
|  |  | Papiers Stadacona Ltee.
|  |  | Peter M. Brant.
|  |  | St. Aurelie Timberlands, Co., Ltd.
20040066 | Gryphon Partners II, L.P | The Great Atlantic & Pacific Tea Company, Inc | Gryphon Partners II, L.P.
|  |  | The Great Atlantic & Pacific Tea Company, Inc.
20040069 | CCG Investments (BVI), L.P | Concertro Software, Inc. | CCG Investments (BVI), L.P.
|  |  | Concertro Software, Inc.
Transactions Granted Early Termination—11/07/2003
20040023 | Schlumberger Limited | Atos Origin SA | Atos Origin SA.
|  |  | Schlumberger Limited.
20040041 | Allergan, Inc | Oculex Pharmaceuticals, Inc | Allergan, Inc.
|  |  | Oculex Pharmaceuticals, Inc.
20040059 | The BISYS Group, Inc | Richard P. Love, Jr | Richard P. Love, Jr.
|  |  | The BISYS Group, Inc.
|  |  | USA Insuracne Group, Inc.
20040067 | ValueClick, Inc | Commission Junction, Inc | Commission Junction, Inc.
|  |  | Value Click, Inc.
20040079 | The TJX Companies, Inc | Bob's Stores, Inc | Bob's H.C., Inc
|  |  | Bob's Inc.
|  |  | Bob's Non-Connecticut Operating Co.
|  |  | Bob's Stores Center, Inc.
|  |  | Bob's Stores, Inc.
|  |  | The TJX Companies, Inc.
20040082 | Apollo Investment Fund V, L.P | ConAgra Foods, Inc | 2326396 Canada, Inc.
|  |  | Apollo Investment Fund V.
|  |  | ConAgra Foods, Inc.
|  |  | United Agri Products Canada Inc.
|  |  | United Agri Products, Inc.
20040084 | Apollo Investment Fund V, L.P | UAP Holding Corp | Apollo Investment Fund V, L.P.
|  |  | UAP Holding Corp.
20040085 | Macromedia, Inc | eHelp Corporation | eHelp Corporation.
|  |  | Macromedia, Inc.
20040090 | Lions Gate Entertainment Corp | Audax Enterainment, L.P | Audax Entertainment, L.P.
|  |  | Film Holdings Co.
|  |  | Lions Gate Enterainment Corp.
Transactions Granted Early Termination—11/10/2003
20040068 | Sabre Holdings Corporation | My Travel Group plc | My Travel Group plc.
|  |  | Sabre Holdings Corporation.
|  |  | Travel Services International, Inc.
|  |  | TTC Holdings, Inc.
|  |  | World Choice Travel, Inc.
20040071 | The Goldman Sachs Group, Inc | Cogentrix Energy, Inc | Congentrix Energy, Inc.
|  |  | The Goldman Sachs Group, Inc.
20040091 | Avaya Inc | NorthWestern Corporation | Avaya Inc.
|  |  | Expanets, Inc.
|  |  | NorthWestern Corporation.
Transactions Granted Early Termination—11/13/2003
20040058 | Merit Partners, L.P | Royal Dutch Petroleum Company | Merit Partners, L.P.
|  |  | Midstream Capital Corp.
|  |  | Royal Dutch Petroleum Company.
|  |  | Shell Michigan Pipeline Company.
|  |  | Shell Onshore Ventures Inc.
|  |  | SWEPI LP.
20040061 | National Leisure Group, Inc | MyTravel Group plc | Blue Sea Partners, Inc.
|  |  | MyTravel Group plc.
|  |  | National Leisure Group, Inc.
20040074 | Digital Insight Corporation | Magnet Communications, Inc | Digital Insight Corporation.
|  |  | Magnet Communications, Inc.
20040075 | Manulife Financial Corporation | John Hancock Financial Services, Inc | John Hancock Financial Services, Inc.
|  |  | Manulife Financial Corporation.
20040089 | Clipper Group Trust | Lasco Shipping Co | Clipper Group Trust.
|  |  | Lasco Shipping Co.
20040095 | Jeld-Wen Holdings, Inc | Windowmaster Products | Jeld-Wen Holdings, Inc.
|  |  | Windowmaster Products.
Transactions Granted Early Termination—11/17/2003
20040015 | Vestar Capital Partners IV, L.P | Terrance Johnson | Mayer-Johnson, Inc.
|  |  | Terrance Johnson.
|  |  | Vestar Capital Partners IV, L.P.
20040053 | dj Orthopedics, Inc | OrthoLogic Corp | dj Orthopedics, Inc.
|  |  | OrthoLogic Corp.
20040062 | aaiPharma Inc | Elan Corporation plc | aaiPharma Inc.
|  |  | Elan Corporation plc.
|  |  | Elan Pharmaceuticals, Inc.
20040100 | O. Bruton Smith | Michele F. Salta | CL Motors, LLC.
|  |  | CTM, LLC.
|  |  | Michele F. Salta
|  |  | O. Bruton Smith.
20040102 | MetLife, Inc | Allianz Aktiengesellschaft | Allianz Aktiengesellschaft.
|  |  | Allianz Life Insurance company of North America.
|  |  | MetLife, Inc.
20040106 | Veeco Instruments Inc | Lauren D. Lackey and Barbara Lackey | Advanced Imaging, Inc.
|  |  | Lauren D. Lackey and Barbara Lackey.
|  |  | Veeco Instruments Inc.
Transactions Granted Early Termination—11/18/2003
20040110 | Scottish Re Group Limited | General Electric Company | ERC Life Reinsurance Corporation.
|  |  | General Electric Company.
|  |  | Scottish Re Group Limited.
Transactions Granted Early Termination—11/20/2003
20040087 | Apollo Investment Fund V, L.P | Royal Numico, N.V | Apollo Investment Fund V, L.P.
|  |  | General Nutrition Companies, Inc.
|  |  | GNC Franchising Canada, Ltd.
|  |  | GNC Franchising Nutrition Commpanies, Inc.
|  |  | Royal Numico, N.V.
20040108 | Estate of Burk Zanft, c/o Deutsche Bank | Heritage Fund I, L.P | Estate of Burk Zanft, c/o Deutsche Bank.
|  |  | Heritage Fund I, L.P.
|  |  | New England Pottery Co., Inc.
20040109 | Wellspring Capital Partners III, L.P | Walter Industries, Inc | JW Aluminum Company.
|  |  | Walter Industries, Inc.
|  |  | Wellspring Capital Partners III, L.P.
20040115 | Quovadx, Inc | Rogue Wave Software, Inc | Quovadx, Inc.
|  |  | Rogue Wave Software, Inc.
20040118 | Dycom Industries, Inc | Willian T. Stover | Dycom Industries, Inc.
|  |  | First South Utility Construction, Inc.
|  |  | William T. Stover.
Transactions Granted Early Termination—11/24/2003
200440072 | Marquette Financial Companies | KBK Capital Corporation | KBK Capital Corporation.
|  |  | Marquette Financial Companies.
20040093 | Lehman Brothers Holdings Inc | Hunter Fan Holdings, Inc | Hunter Fan Holdings, Inc.
|  |  | Lehman Brothers Holdings Inc.
20040135 | Mitsubishi Chemical Corporation | Mitsubishi Chemical Corporation | Mitsubishi Chemical Corporation.
|  |  | Mitsubishi Pharma Corporation.
Transactions Granted Early Termination—11/25/2003
20031016 | Symantec Corporation | PowerQuest Corporation | PowerQuest Corporation.
|  |  | Symantec Corporation.
20040107 | drugstore.com, Inc | lan and Louise Mummery | drugstore.com, Inc.
|  |  | lan and Louise Mummery.
|  |  | International Vision Direct Corp.
20040121 | TA IX L.P | Logistics Health, Inc | Logistics Health, Inc.
|  |  | TA IX L.P.
20040123 | Ephesos Vermogensverwaltung GmbH | Sirona Dental Systems S.a.r.l | Ephesos Vermogensverwaltung GmbH.
|  |  | SIRONA Beteilligungs—und Verwaltungsgesellschaft.
|  |  | Sirona Dental Systems S.a.r.l.
20040125 | J.W. Childs Equity Partners III, L.P | John T. Walton | John T. Walton.
|  |  | J.W. Childs Equity Partners III, LP.
|  |  | Xyron, Inc.
20040127 | Liz Claiborne, Inc | Cerberus SBI Investor L.P | Cerberus SBI Investor L.P.
|  |  | Enyce Holding LLC
|  |  | Liz Claiborne, Inc.
20040129 | Maple Leaf Foods Inc | Smithfield Foods, Inc | Maple Leaf Foods Inc.
|  |  | Smithfield Canada Limited.
|  |  | Smithfield Foods, Inc.
20040134 | Heritage Propane Partners, L.P | LaGrange Energy, L.P | ETC Oasis GP, LLC.
|  |  | Five Dawaco, Inc.
|  |  | Heritage Propane Partners, L.P.
|  |  | LA GP, LLC.
|  |  | La Grange Acquisition, L.P.
|  |  | La Grange Energy, L.P.
|  |  | LGM, LLC.
|  |  | LG PL, LLC.
20040138 | Siegwerk GmbH & Co. KG | Color Converting Industries Co | Color Converting Industries Co.
|  |  | Color Converting, LLC.
|  |  | Siegwerk GmbH & Co. KG.
20040145 | Orbitz, Inc | Orbitz, LLC | Orbitz, Inc.
|  |  | Orbitz, LLC.
20040147 | Sun Microsystems, Inc | Waveset Technologies, Inc | Sun Microsystems, Inc.
|  |  | Waveset Technologies, Inc.
20040150 | Lawrence F. Flick, IV | Fox & Roach/Trident, G.P | Fox & Roach/Trident, G.P.
|  |  | Lawrence F. Flick, IV.
20040154 | Littlejohn Fund II, L.P | LTS Holdings, Inc | Littlejohn Fund II, L.P.
|  |  | LTS Holdings, Inc.
Transactions Granted Early Termination—11/28/2003
2004076 | L-3 Communications Holdings, Inc | The Veritas Capital Fund L.P | L-3 Communications Holdings, Inc.
|  |  | The Veritas Capital Fund L.P.
|  |  | Vertex Aerospace LLC.
2004081 | Computershare Limited | Geogeson Shareholder Coimmunications, Inc | Computershare Limited.
|  |  | Geogeson Shareholder Communications Inc.
20040101 | KAT Holdings, L.P | General Electric Company | Atrium Corporation.
|  |  | General Electric Company.
|  |  | KAT Holdings, L.P.
20040119 | Reliant Pharmaceuticals, LLC | Abbott Laboratories | Abbott Laboratories.
|  |  | Reliant Pharmaceuticals, LLC.
20040130 | The Home Depot, Inc | RMA Home Services, Inc | RMA Home Services, Inc.
|  |  | The Home Depot, Inc.
20040131 | Bain Capital Fund VII, L.P | Bombardier Inc | Bain Capital Fund VII, L.P.
|  |  | Bombardier Inc.
|  |  | Bombardier Motor Corporation of America.
20040132 | Ralcorp Holdings, Inc | Wind Point Partners III, L.P | Ralcorp Holdings, Inc.
|  |  | Value Added Bakery Holding Company.
|  |  | Wind Point Partners III, L.P.
20040133 | Unilin Holding N.V | Fritz Homann | Fritz Homann.
|  |  | Homanit USA, Inc.
|  |  | Unilin Holding N.V.
20040136 | Rural Cellular Corporation | AT&T Wireless Services, Inc | ABC Wireless, LLC
|  |  | AirCom PCS, Inc.
|  |  | AMT Cellular, LLC
|  |  | AT&T Wireless PCS, LLC.
|  |  | AT&T Wireless Services, Inc.
|  |  | Comet Wireless, Inc.
|  |  | QuinCom, Inc.
|  |  | Rural Cellular Corporation.
|  |  | Tritel A/B Holding Corp.
|  |  | Tritel C/F Holding Corp.
20040137 | AT&T Wireless Services, Inc | Rural Cellular Corporation | AT&T Wireless Services, Inc.
|  |  | RCC Holdings, Inc.
|  |  | RCC Minnesota, Inc.
|  |  | Rural Cellular Corporation.
20040142 | BB&T Corporation | McGriff, Seibels & Williams, Inc | BB&T Corporation.
|  |  | McGriff, Seibels & Williams, Inc.
20040151 | Aetna Inc | Frederick H. Chicos | Aetna Inc.
|  |  | Chickering Benefit Planning Insurance Agency, Inc.
|  |  | Chickering Claims Administrators, Inc.
|  |  | Frederick H. Chicos.
20040155 | Copperweld Acquisition Corporation | The LTV Corporation (Debtor-in-Possession) | Copperweld Acquisition Corporation.
|  |  | Copperweld Canada, Inc.
|  |  | Copperweld Corporation.
|  |  | LTV Copperweld Bimetallics UK (Holdings) Ltd.
|  |  | The LTV Corporation (Debtor-in-Possession).
20040161 | Aetna Inc | Kenneth Chicos | Aetna Inc.
|  |  | Chickering Benefit Planning Insurance Agency, Inc.
|  |  | Kenneth Chicos.

For Further Information Contact: Sandra M. Peay, Contact Representative, or Renee Hallman, Legal Technician. Federal Trade Commission, Premerger Notification Office, Bureau of Competition, Room H-303, Washington, DC 20580. (202) 326-3100.

By direction of the Commission.
Donald S. Clark,
Secretary.

[FR Doc. 03-30861 Filed 12-12-03; 8:45 am]

BILLING CODE 6750-01-M